DEPARTMENT OF VETERANS AFFAIRS

Advisory Committee: VA National Academic Affiliations Council, Notice of Meeting

The Department of Veterans Affairs (VA) gives notice under the Federal Advisory

Committee Act that the VA National Academic Affiliations Council (NAAC) will meet via conference call on July 23, 2019, from 1:00 p.m. to 3:00 p.m. EST. The meeting is open to the public.

The purpose of the Council is to advise the Secretary on matters affecting partnerships between VA and its academic affiliates.

On July 23, 2019, the Council will discuss the Graduate Medical Education Reimbursements to Affiliates Government Accountability Office Audit; receive a status update regarding the Electronic Health Record Modernization Work Group; deliberate on VA Trainee Onboarding processes; receive briefings on the current status of Diversity and Inclusion Subcommittee efforts, VHA Telehealth Care Delivery by Trainees and the VA MISSION Act; obtain the status on Relationships with For-Profit Educational Institutions; and discuss recent efforts to oversee field Affiliation Partnership Councils. The Council will receive public comments from 2:40 p.m. to 2:50 p.m. EST.

Interested persons may attend and/or present oral statements to the Council. The dial in number to attend the conference call is: 1-800-767-1750. At the prompt, enter access code 12095 then press #. Individuals seeking to present oral statements are invited to submit a 1-2 page summary of their comments at the time of the meeting for inclusion in the official meeting record. Oral presentations will be limited to five minutes or less, depending on the number of participants. Interested parties may also provide written comments for review by the Council prior to the meeting or at any time, by email to Larissa.Emory@va.gov, or by mail to Larissa A. Emory PMP, CBP, MS, Designated Federal Officer, Office of Academic Affiliations (10X1), 810 Vermont Avenue NW, Washington, DC 20420. Any member of the public wishing to participate or seeking additional information should contact Ms. Emory via email or by phone at (915) 269-0465.

Dated: May 29, 2019.
Jelessa M. Burney,
Federal Advisory Committee Management Officer.

[FR Doc. 2019-11474 Filed 5-31-19; 8:45 am]

BILLING CODE P